NUCLEAR REGULATORY COMMISSION

Sunshine Federal Register Notice

Agency Holding The Meetings: Nuclear Regulatory Commission.

Dates: Week of October 20, 2008.

Place: Commissioners' Conference Room, 11555 Rockville Pike, Rockville, Maryland.

Status: Public and Closed.

Additional Items to be Considered:

Week of October 20, 2008

Thursday, October 23, 2008

9:25 a.m. Affirmation Session (Public Meeting) (Tentative) a. Pacific Gas and Electric Co. (Diablo Canyon ISFSI), Docket No. 72-26-ISFSI, Decision on the Merits of San Luis Obispo Mothers for Peace's Contention 2 (Tentative).

* * * * *

* The schedule for Commission meetings is subject to change on short notice. To verify the status of meetings, call (recording)—(301) 415-1292. Contact person for more information: Michelle Schroll, (301) 415-1662.

* * * * *

Additional Information: Affirmation of “Pacific Gas and Electric Co. (Diablo Canyon ISFSI), Docket No. 72-26-ISFSI, Decision on the Merits of San Luis Obispo Mothers for Peace's Contention 2” was tentatively scheduled on October 6, 2008 and postponed. It has been rescheduled on October 23, 2008.

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 15, 2008.
R. Michelle Schroll,
Office of the Secretary.

[FR Doc. E8-25143 Filed 10-17-08; 4:15 pm]

BILLING CODE 7590-01-P